DEPARTMENT OF VETERANS AFFAIRS

[OMB Control No. 2900-0365]

Agency Information Collection: Activity Under OMB Review (Request for Disinterment)

AGENCY: National Cemetery Administration, Department of Veterans Affairs.

ACTION: Notice.

SUMMARY: In compliance with the Paperwork Reduction Act (PRA) of 1995 (44 U.S.C. 3501-3521), this notice announces that the National Cemetery Administration (NCA), Department of Veterans Affairs (VA), will submit the collection of information abstracted below to the Office of Management and Budget (OMB) for review and comment. The PRA submission describes the nature of the information collection and its expected cost and burden; it includes the actual data collection instrument.

DATES: Written comments and recommendations on the proposed collection of information should be received on or before January 11, 2017.

ADDRESSES: Submit written comments on the collection of information through Federal Docket Management System (FDMS) at www.Regulations.gov or to Office of Information and Regulatory Affairs, Office of Management and Budget, Attn: VA Desk Officer; 725 17th St. NW., Washington, DC 20503 or sent through electronic mail to oira_submission@omb.eop.gov. Please refer to “OMB Control No.2900-0365.”

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0365.”

SUPPLEMENTARY INFORMATION:

Title: Request for Disinterment, VA Form 40-4970.

OMB Control Number: 2900-0365.

Type of Review: Revision.

Abstract: VA Form 40-4970 is to allow a person who has a sincere wish and cogent reason to request removal of remains from a national cemetery for interment at another location. The information will be used to ensure immediate family members are in agreement with the request in accordance with the U.S.C. 38. The Federal Register Notice with a 60-day comment period soliciting comments on this collection of information was published at Vol. 81, FR 69575 on October 6, 2016.

Affected Public: Individuals or households.

Estimated Annual Burden: 185.

Estimated Average Burden per Respondent: 10 minutes.

Frequency of Response: On occasion.

Estimated Number of Respondents: 1,106.

By direction of the Secretary.
Cynthia Harvey-Pryor,
Program Specialist, Office of Privacy and Records Management, Department of Veterans Affairs.

[FR Doc. 2016-29663 Filed 12-9-16; 8:45 am]

BILLING CODE 8320-01-P